FEDERAL MARITIME COMMISSION

Sunshine Act Meeting

AGENCY HOLDING THE MEETING: Federal Maritime Commission.

TIME AND DATE: May 24, 2017; 10:00 a.m.

PLACE: 800 N. Capitol Street NW., First Floor Hearing Room, Washington, DC.

STATUS: The first portion of the meeting will be held in Open Session; the second in Closed Session.

MATTERS TO BE CONSIDERED:

Open Session

1. Briefing by Acting Chairman Khouri on Global Regulatory Summit

2. Briefing by Commissioner Maffei on Global Liner Shipping Conference

3. Development of 5- year Strategic Plan and Regulatory Reform Task Force Update

4. Staff Update on Global Ocean Carrier Alliances

Closed Session

1. Staff Update on Global Ocean Carrier Alliances

CONTACT PERSON FOR MORE INFORMATION: Rachel E. Dickon, Assistant Secretary, (202) 523 5725.

Rachel E. Dickon,
Assistant Secretary.

[FR Doc. 2017-10482 Filed 5-18-17; 11:15 am]

BILLING CODE 6731-AA-P